DEPARTMENT OF HEALTH AND HUMAN SERVICES

Centers for Disease Control and Prevention

Board of Scientific Counselors, Coordinating Center for Health Promotion (BSC, CCHP or the BSC)

In accordance with section 10(a)(2) of the Federal Advisory Committee Act (Pub. L. 92-463), the Centers for Disease Control and Prevention (CDC) announces the following meeting of the aforementioned committee:

Time and Date: 1 p.m.-5 p.m., September 15, 2009.

The call may end before 5 p.m. if business is completed. Someone will remain on the line until that time to notify callers that the call is ended and business complete.

Place: Teleconference originating from CDC, 1825 Century Boulevard, NE., Room 4066, Atlanta, Georgia 30345.

Call-in number: (800) 779-9076.

Participant pass code: 39780.

If you have a problem in accessing the call, call (404) 498-6700.

Status: This meeting is open to the public via the conference line above which will accommodate approximately 100 callers.

Purpose: This BSC is charged with providing advice and guidance to the Secretary of Health and Human Services, the Director of CDC, and the Director of CCHP concerning strategies and goals for the programs and research within the National Center on Birth Defects and Developmental Disabilities and the National Center for Chronic Disease Prevention and Health Promotion.

Matters To Be Discussed: The agenda will include a continuation of the discussion and finalization of recommendations to CDC leadership as prescribed in the Coordinating Center for Health Promotion Charter. Those recommendations relate to strategic planning for the National Center on Birth Defects and Developmental Disabilities as well as the results of the BSC's review of the National Center for Chronic Disease Prevention and Health Promotion as an organizational unit at CDC.

Providing Oral or Written Comments: It is the policy of the BSC, CCHP to provide a brief period for oral public comments. In general, each individual or group requesting to make an oral presentation will be limited to a total time of five minutes, if time permits.

Contact Person for Additional Information: Karen Steinberg, PhD, Senior Science Officer, Coordinating Center for Health Promotion, CDC, 4770 Buford Highway, NE., Mailstop E-70, Atlanta, Georgia 30341; telephone (404) 498-6700; fax (404) 498-6880; or via e-mail at Karen.Steinberg@cdc.hhs.gov.

The Director, Management Analysis and Services Office, has been delegated the authority to sign Federal Register Notices pertaining to announcements of meetings and other committee management activities, for CDC and the Agency for Toxic Substances and Disease Registry.

Dated: August 25, 2009.
Elaine L. Baker,
Director, Management Analysis and Services Office, Centers for Disease Control and Prevention.

[FR Doc. E9-20898 Filed 8-28-09; 8:45 am]

BILLING CODE 4163-18-P